OFFICE OF GOVERNMENT ETHICS

Privacy Act of 1974; System Records

AGENCY: Office of Government Ethics.

ACTION: Notice of a new system of records.

SUMMARY: The Office of Government Ethics (OGE) proposes to create a new internal system of records pursuant to the provisions of the Privacy Act of 1974. This system of records contains all OGE personnel records that are subject to the Privacy Act but are not covered in the notices of systems of records published by other agencies or other OGE internal systems of records.

DATES: This system of records will be effective on October 5, 2023, subject to a 30-day period in which to comment on the routine uses, described below. Please submit any comments by November 6, 2023.

ADDRESSES: Comments may be submitted to OGE, by any of the following methods:

Email: usoge@oge.gov (Include reference to “OGE/INTERNAL-8 comment” in the subject line of the message.)

Mail, Hand Delivery/Courier: Office of Government Ethics, 1201 New York Avenue NW, Suite 500, Attention: Jennifer Matis, Privacy Officer, Washington, DC 20005-3917.

FOR FURTHER INFORMATION CONTACT: Jennifer Matis at the U.S. Office of Government Ethics; telephone: 202-482-9216; TTY: 800-877-8339; email: jmatis@oge.gov.

SUPPLEMENTARY INFORMATION: OGE proposes to create a new internal system of records containing all personnel records that are subject to the Privacy Act but are not covered in the notices of systems of records published by other agencies or other internal OGE systems of records. This includes, but is not limited to, records related to internal diversity, equity, inclusion, and accessibility (DEIA) initiatives, suitability determinations and other personnel security matters, professional development, and employee productivity and engagement.

SYSTEM NAME AND NUMBER:

OGE/INTERNAL-8, Employee Personnel Files Not Covered by Other Notices.

SECURITY CLASSIFICATION:

Unclassified.

SYSTEM LOCATION:

The system is located at OGE's offices and/or in a secure cloud service provided environment. OGE's street address is 1201 New York Avenue NW, Suite 500, Washington, DC 20005-3917. After February 1, 2024, OGE's street address will be Office of Government Ethics, Suite 750, 250 E Street SW, Washington, DC 20024.

SYSTEM MANAGER(S):

Dale Christopher, Deputy Director for Compliance, Office of Government Ethics, Suite 500, 1201 New York Avenue NW, Washington, DC 20005-3917.

AUTHORITY FOR MAINTENANCE OF THE SYSTEM:

5 U.S.C. chapters 131 and 73; 44 U.S.C. 3101; 5 U.S.C. 301; 5 U.S.C. chapter 79; Federal Preparedness Circular (FPC) 65, July 26, 1999; Homeland Security Presidential Directive 12 (HSPD-12); Federal Information Processing Standard 201: Policy for a Common Identification Standard for Federal Employees and Contractors; Executive Orders 13764, 13988, and 14035.

PURPOSE(S) OF THE SYSTEM:

The purpose is to allow OGE to fulfill its personnel responsibilities pursuant to Federal law, regulation, and Executive Order.

CATEGORIES OF INDIVIDUALS COVERED BY THE SYSTEM:

Current or former employees of OGE, applicants, detailees, contract employees, and interns.

CATEGORIES OF RECORDS IN THE SYSTEM:

All records relating to OGE personnel that are subject to the Privacy Act but not are covered in the governmentwide notices of systems of records published by other agencies with influence upon personnel management at the agency (such as the Office of Personnel Management, Merit Systems Protection Board, Office of Special Counsel, Equal Employment Opportunity Commission, Department of State, or Department of Labor) or other OGE internal systems of records.

The information in this system may include, but is not limited to: name; positions held or sought; demographic information; skills assessments; qualifications, training, and employment history; counseling and reprimands; employee professional development records; incentives and awards; employee relations information; work-related injury or illness claims; work assignments and productivity information; information regarding applicant and exit interviews; information regarding details, retirements, and separations; information regarding within-grade increases and denials; information regarding employee engagement and work satisfaction; workplace safety and security information; suitability records; Student Loan Repayment Program (SLRP) records; and Continuity of Operations Plan (COOP) records.

RECORD SOURCE CATEGORIES:

Information in this system of records is provided by the individual on whom the record is maintained or from other federal agencies.

ROUTINE USES OF RECORDS MAINTAINED IN THE SYSTEM, INCLUDING CATEGORIES OF USERS AND THE PURPOSES OF SUCH USES:

These records and the information contained therein may be used:

a. To disclose information to the appropriate Federal agency or Federal contractor when necessary to obtain an employment-related benefit for the individual.

b. To disclose information to the appropriate agency (whether Federal, state, local, or foreign) when necessary to comply with an enforceable statute, contract, rule, regulation, or order.

c. To disclose information to a Federal, State, or local agency maintaining civil, criminal or other relevant enforcement information or other pertinent information, such as current licenses, if necessary to obtain information relevant to an agency decision concerning the assignment, hiring, or retention of an individual, the issuance of a security clearance, the letting of a contract, or the issuance of a license, grant, or other benefit.

d. To disclose information to the Department of Justice in connection with determining whether disclosure thereof is required by the Freedom of Information Act (5 U.S.C. 552) or as necessary to defend OGE from litigation under such Act.

e. To disclose information to officials of the Office of Management and Budget, General Services Administration, Office of Personnel Management, Merit Systems Protection Board, Office of the Special Counsel, Federal Labor Relations Authority, Equal Employment Opportunity Commission, Department of State, or Department of Labor when requested in performance of their authorized duties.

f. To disclose information to the Office of Personnel Management: for personnel research purposes; as a data source for management information; for the production of summary descriptive statistics and analytical studies in support of the function for which the records are collected and maintained; or for related workforce studies.

g. To disclose information to commercial contractors (debt collection agencies) for the purpose of collecting delinquent debts as authorized by the Debt Collection Act (31 U.S.C. 3718).

h. To disclose information when OGE determines that the records are arguably relevant and necessary to a proceeding before a court, grand jury, or administrative or adjudicative body; or in a proceeding before an administrative or adjudicative body when the adjudicator determines the records to be relevant and necessary to the proceeding.

i. To disclose information to the National Archives and Records Administration in records management inspections conducted under authority of 44 U.S.C. 2904 and 2906.

j. To disclose information to a Member of Congress or a congressional office in response to an inquiry made on behalf of, and at the request of, an individual who is the subject of the record.

k. To disclose information to contractors, grantees, experts, consultants, detailees, and other non-OGE employees performing or working on a contract, service, or other assignment for the Federal Government, when necessary to accomplish an agency function related to this system of records.

l. To disclose information to appropriate agencies, entities, and persons when: (1) OGE suspects or has confirmed that there has been a breach of the system of records; (2) OGE has determined that as a result of the suspected or confirmed breach there is a risk of harm to individuals, the agency (including its information systems, programs, and operations), the Federal Government, or national security; and (3) the disclosure made to such agencies, entities, and persons is reasonably necessary to assist in connection with OGE's efforts to respond to the suspected or confirmed breach or to prevent, minimize, or remedy such harm.

m. To disclose information to another Federal agency or Federal entity, when OGE determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in paper and/or electronic form.

POLICIES AND PRACTICES FOR RETRIEVAL OF RECORDS:

These records are generally retrieved by name.

POLICIES AND PRACTICES FOR RETENTION AND DISPOSAL OF RECORDS:

The records are covered by disposition authorities that are specific to the record and may either be a General Records Schedule (GRS) or an agency-specific authority.

ADMINISTRATIVE, TECHNICAL, AND PHYSICAL SAFEGUARDS:

Hardcopy records are maintained in file cabinets which may be locked or in specified areas to which only authorized personnel have access. Electronic records are maintained on the OGE network. They are protected from unauthorized access through password identification procedures, limited access, firewalls, and other system-based protection methods.

RECORD ACCESS PROCEDURES:

Individuals requesting access to this system of records must follow the procedures set forth in OGE's Privacy Act regulations at 5 CFR part 2606.

CONTESTING RECORD PROCEDURES:

Individuals wishing to request amendment of records about themselves must follow the procedures set forth in OGE's Privacy Act regulations at 5 CFR part 2606.

NOTIFICATION PROCEDURES:

Individuals wishing to inquire whether this system of records contains information about them must follow the procedures set forth in OGE's Privacy Act regulations at 5 CFR part 2606.

EXEMPTIONS CLAIMED FOR THE SYSTEM:

None.

HISTORY:

None.

Approved: September 28, 2023.
Shelley K. Finlayson,
Acting Director, U.S. Office of Government Ethics.

[FR Doc. 2023-22167 Filed 10-4-23; 8:45 am]

BILLING CODE P